DEPARTMENT OF STATE

[Public Notice 11341]

Overseas Schools Advisory Council Notice of Meeting

The Overseas Schools Advisory Council, Department of State, will hold its Winter Committee Meeting on Thursday, February, 25, 2021, from 11:00 a.m. until approximately 2:30 p.m. Based on federal and state guidance in response to the Covid-19 pandemic this meeting will be held virtually. The meeting will be made available to the public; see below.

The Overseas Schools Advisory Council works closely with the U.S. business community on improving those American-sponsored schools overseas that are assisted by the Department of State and attended by dependents of U.S. government employees, and the children of employees of U.S. corporations and foundations abroad.

This meeting will deal with issues related to the work and the support provided by the Overseas Schools Advisory Council to the American-sponsored overseas schools. There will be a report and discussion about the status of the Council-sponsored Child Protection Project and discussion on the most recent project addressing school based mental health issues. Moreover, the Regional Education Officers in the Office of Overseas Schools will make presentations on the activities and initiatives in the American-sponsored overseas schools.

Members of the public may attend the meeting virtually and join in the discussion, subject to the instructions of the Chair. Members of the public who plan to virtually attend should advise the office of Mr. Thomas Shearer, Department of State, Office of Overseas Schools, telephone 202-261-8200, prior to February 18, 2021. Any requests for reasonable accommodation should also be made by that date. Interested members of the public will be asked to provide their name and preferred email address, and a valid link will be sent prior to the meeting. The link provided to attendees should not be shared with other individuals.

Thomas P. Shearer,
Executive Secretary, Overseas Schools Advisory Council.

[FR Doc. 2021-02157 Filed 2-1-21; 8:45 am]

BILLING CODE 4710-24-P